DEPARTMENT OF THE INTEROR

Bureau of Land Management

[NV-055-5853-EU]

Notice of Realty Action: Direct Sale of Public Lands in Clark County, NV, N-79693

AGENCY: Bureau of Land Management, Interior.

ACTION: Notice.

SUMMARY: The following described lands, aggregating approximately 5.0 acres, more or less, have been designated for disposal and will be offered as a direct sale of public lands within the City of Henderson in Clark County, Nevada, to M Holdings, LLC.

DATES: Comment regarding the proposed sale must be received by the Bureau of Land Management (BLM) on or before February 13, 2006.

ADDRESSES: Comments regarding the proposed sale should be addressed to: Field Manager, Las Vegas Field Office, Bureau of Land Management, 4701 N. Torrey Pines Drive, Las Vegas, Nevada 89103.

More detailed information regarding the proposed sale and the land involved may be reviewed during normal business hours (7:30 a.m. to 4:30 p.m.) at the Las Vegas Field Office (LVFO).

FOR FURTHER INFORMATION CONTACT: You may contact Judy Fry, Program Lead, Sales at (702) 515-5081 or by email at jfry@.blm.gov. You may also call (702) 515-5000 and ask to have your call directed to a member of the Sales Team.

SUPPLEMENTARY INFORMATION: The lands hereinafter described, consisting of 5.0 acres, more or less, have been authorized and designated for disposal under the Southern Nevada Public Land Management Act of 1998 (112 Stat. 3242), as amended by the Clark County Conservation of Public Land and Natural Resources Act of 2002 (116 Stat. 1994) (hereinafter “SNPLMA”). The land will be offered noncompetitively as a direct sale in accordance with the applicable provisions of Sections 203 and 209 of the Federal Land Policy and Management Act (FLPMA) of 1976 (43 U.S.C. 1713 and 1719), respectively, its implementing regulations, and in accordance with 43 CFR 2710.0-2, at not less than the appraised Fair Market Value (FMV) of the parcel, which has been determined to be $5,010,000.00.

It is determined that the sale meets the criteria for disposal in FLPMA and the regulations at 43 CFR 2710.0-3 (a)(2) which states “Disposal of such tract shall serve important public objectives, including but not limited to, expansion of communities and economic development, which cannot be achieved prudently or feasibly on lands other than public lands and which outweigh other objectives and values, including, but not limited to, recreation and scenic values, which would be served by maintaining such tract in Federal ownership; and, as stated in (a)(3) that “Such tract, because of its location or other characteristics is difficult and uneconomic to manage as part of the management by another Federal department or agency.

43 CFR 2711.3-3 (a) states that “Direct sales (without competition) may be utilized, when in the opinion of the authorized officer, a competitive sale is not appropriate and the public interest would best be served by a direct sale. Examples include, but are not limited to: (2) A tract identified for sale that is an integral part of a project of public importance and speculative bidding would jeopardize a timely completion and economic viability of the project; or (4) The adjoining ownership pattern and access indicate a direct sale is appropriate”.

The City of Henderson (City), Nevada, has proposed that the 5.0 acre parcel be sold to M Holdings, LLC (MHLLC) as an integral part of a public project of vital economic development importance. The City is further interested in addressing critical transportation needs adjacent to the St. Rose Parkway/Las Vegas Boulevard/Haven Road interchange and enhancing the “gateway” to the City. MHLLC has been cooperative with the City and as the landowner of record, on all four sides of the subject parcel. MHLLC has entered into appropriate transportation and access agreements as part of an overall redevelopment agreement for the surrounding land. Based upon a direct request from the City, MHLLC has agreed to donate approximately 3.0 acres of private land to the City for a new interchange, finance and construct a new intersection for Haven Street from St. Rose Parkway to Bicentennial Parkway, and pay for the light and associated improvements at the proposed intersection.

The City has proposed to the BLM that Federal lands immediately adjacent to the donated property be sold to MHLLC at fair market value to enable MHLLC to replace the donated land and avoid unduly diminishing the size and value of their aggregate property. The City of Henderson expressed specific concerns that speculative bidding on the federal parcel could prevent MHLLC from purchasing the replacement lands, thus stopping the donation and impairing the City's ability to complete the public project. The 3.0 acre donation from MHLLC to the City, which will be recorded in the County, is a term and condition of the FMV direct sale to MHLLC. In the opinion of the authorized officer, a direct sale to MHLLC best serves the public interest.

In this instance, MHLLC's ownership of adjacent parcels meets the regulatory adjoining ownership and access test as well. MHLLC owns parcels adjacent to the federal parcel on all sides and controls access to the subject parcel from those points. The federal parcel is landlocked, without access, on all sides and overall redevelopment efforts being advanced by MHLLC are an integral part of a project of public importance. Speculative bidding on the subject parcel would serve no useful purpose other than to jeopardize timely completion and economic viability of the project. Finally, the City recognizes MHLLC could suffer a substantial economic loss if the tract were purchased by anyone other than MHLLC, which would ultimately result in substantial economic loss to the City as it relates to redevelopment plan for land surrounding the subject parcel.

The proposed sale is consistent with the BLM Las Vegas Resource Management Plan and would serve important public objectives which cannot be achieved prudently or feasibly elsewhere. The land contains no other known public values. The environmental assessment, map, and approved appraisal report covering the proposed sale are available for review at the BLM, Las Vegas Field Office, Las Vegas, Nevada (LVFO).

Land Proposed for Sale

Mount Diablo Meridian, Nevada

T. 23 S., R. 61 E.

Sect. 9, S½SE¼SW¼NW¼.

The lands described above contain 5.0 acres, more or less. Clark County APN No. 191-09-201-006.

When the parcel of land is sold, the locatable mineral interests therein will be sold simultaneously as part of the sale. The land identified for sale has no known locatable mineral value. Acceptance of the offer to purchase will constitute an application for conveyance of the locatable mineral interests. In conjunction with the final payment, the applicant will be required to pay a $50.00 non-refundable filing fee for processing the conveyance of the locatable mineral interest.

Terms and Conditions of Sale: The proposed offer for direct sale to MHLLC is contingent upon the City receiving beforehand the 3.0 acre donation from MHLLC on terms satisfactory to the City. The BLM sale parcel is subject to the following:

1. All discretionary leaseable and saleable mineral deposits are reserved; but, permittees, licensees, and lessees retain the right to prospect for, mine, and remove such minerals owned by the United States under applicable law and any regulations that the Secretary of the Interior may prescribe, including all necessary access and exit rights.

2. A right-of-way is reserved for ditches and canals constructed by authority of the United States under the Act of August 30, 1890 (43 U.S.C. 945).

3. The parcel is subject to valid existing rights. Parcels may also be subject to applications received prior to publication of this Notice if processing the application would have no adverse affect on the federally approved Fair Market Value (FMV).

4. The parcel is subject to reservations for road, public utilities and flood control purposes, both existing and proposed, in accordance with the local governing entities' Transportation Plans.

5. No warranty of any kind, express or implied, is given by the United States as to the title, physical condition or potential uses of the parcel of land proposed for sale, and the conveyance of any such parcel will not be on a contingency basis. However, to the extent required by law, all such parcels are subject to the requirements of section 120 (h) of the Comprehensive Environmental Response Compensation and Liability Act, as amended (CERCLA) (42 U.S.C. 9620)(h).

6. All purchasers/patentees, by accepting a patent, agree to indemnify, defend, and hold the United States harmless from any cost, damages, claims, causes of action, penalties, fines, liabilities, and judgments of any kind or nature arising from the past, present, and future acts or omissions of the patentee or their employees, agents, contractors, or lessees, or any third-party , arising out of or in connection with the patentee's use, occupancy, or operations on the patented real property. This indemnification and hold harmless agreement includes, but is not limited to, acts and omissions of the patentee and their employees, agents, contractors, or lessees, or any third party, arising out of or in connection with the use and/or occupancy of the patented real property which has already resulted or does hereafter result in; (1) Violations of Federal, State, and local laws and regulations that are now or may in the future become, applicable to the real property; (2) Judgments, claims or demands of any kind assessed against the United States; (3) Cost, expenses, or damages of any kind incurred by the United States; (4) Other releases or threatened releases of solid or hazardous waste(s) and/or hazardous substance(s), as defined by federal or state environmental laws; off, on, into or under land, property and other interests of the United States; (5) Other activities by which solids or hazardous substances or wastes, as defined by federal and state environmental laws are generated, released, stored, used or otherwise disposed of on the patented real property, and any cleanup response, remedial action or other actions related in any manner to said solid or hazardous substances or wastes; or (6) Natural resource damages as defined by federal and state law. This covenant shall be construed as running with patented real property and may be enforced by the United States in a court of competent jurisdiction.

7. Maps delineating the individual proposed sale parcel are available for public review at the BLM LVFO along with the appraisal.

8. Upon acceptance of the offer to purchase, MHLLC will submit 20% of the FMV to Bureau of Land Management (BLM), Las Vegas Field Office, 4701 North Torrey Pines Drive, Las Vegas, NV, 89103. On or prior to the expiration of 180 days following payment of the required deposit, MHLLC will remit the balance of the FMV to BLM in the form of a certified check, money order, bank draft or cashier's check made payable to the order of the Bureau of Land Management.

9. The BLM may accept or reject any or all offers, or withdraw any parcel of land or interest therein from sale, if, in the opinion of the authorized officer, consummation of the sale would not be fully consistent with FLPMA or other applicable laws or are determined to not be in the public interest. If not sold, any parcel described above in this Notice may be identified for sale at a later date without further legal notice.

10. Federal law requires bidders to be U.S. citizens 18 years of age or older; a corporation subject to the laws of any State or of the United States; a State, State instrumentality, or political subdivision authorized to hold property, or an entity including, but not limited to, associations or partnerships capable of holding property or interest therein under the laws of the State of Nevada. Certification of qualification, including citizenship or corporation or partnership, must accompany the bid deposit.

Additional Information: In order to determine the value, through appraisal, of the parcel of land proposed to be sold, certain extraordinary assumptions may have been made of the attributes and limitations of the land and potential effects of local regulations and policies on potential future land uses. Through publication of this NORA, the BLM gives notice that these assumptions may not be endorsed or approved by units of local government. It is the buyer's responsibility to be aware of all applicable local government policies, laws, and regulations that would affect the subject lands, including any required dedication of lands for public uses. It is also the buyer's responsibility to be aware of existing or projected use of nearby properties. When conveyed out of federal ownership, the lands will be subject to any applicable reviews and approvals by the respective unit of local government for proposed future uses, and any such reviews and approvals will be the responsibility of the buyer. Any land lacking access from a public road or highway will be conveyed as such, and future access acquisition will be the responsibility of the buyer.

Public Comments: The BLM Field Manager, Las Vegas Field Office, 4701 North Torrey Pines Drive, Las Vegas, Nevada 89103 will receive the comments of the general public and interested parties up to 45 days after publication of this Notice in the Federal Register. Any adverse comments will be reviewed by the State Director, who may sustain, vacate, or modify this realty action in whole or in part. In the absence of any adverse comments this realty action will become the final determination of the Department of the Interior. Any comments received during this process, as well as the commentor's name and address, will be available to the public in the administrative record and/or pursuant to a Freedom of Information Act request. You may indicate for the record that you do not wish to have your name and/or address made available to the public. Any determination by the BLM to release or withhold the names and/or addresses of those who comment will be made on a case-by case basis. A request from a commentor to have their name and/or address withheld from public release will be honored to the extent permissible by law.

Authority: 43 CFR 2711.1-2.

Dated: October 26, 2005.
Angie Lara,
Associate Field Manager.

[FR Doc. E5-8024 Filed 12-28-05; 8:45 am]

BILLING CODE 4310-HC-P